DEPARTMENT OF COMMERCE

National Telecommunications and Information Administration

Multistakeholder Process To Promote Collaboration on Vulnerability Research Disclosure

AGENCY: National Telecommunications and Information Administration, Commerce.

ACTION: Notice of open meeting.

SUMMARY: The National Telecommunications and Information Administration (NTIA) will convene meetings of a multistakeholder process concerning the collaboration between security researchers and software and system developers and owners to address security vulnerability disclosure. This Notice announces the first meeting, which is scheduled for September 29, 2015.

DATES: The meeting will be held on September 29, 2015, from 9:00 a.m. to 3:00 p.m., Pacific Time. See SUPPLEMENTARY INFORMATION for details.

ADDRESSES: The meeting will be held in the Booth Auditorium at the University of California, Berkeley, School of Law, Boalt Hall, Bancroft Way and Piedmont Avenue, Berkeley, CA 94720-7200.

FOR FURTHER INFORMATION CONTACT: Allan Friedman, National Telecommunications and Information Administration, U.S. Department of Commerce, 1401 Constitution Avenue NW., Room 4725, Washington, DC 20230; telephone (202) 482-4281; email; afriedman@ntia.doc.gov. Please direct media inquiries to NTIA's Office of Public Affairs, (202) 482-7002; email press@ntia.doc.gov.

SUPPLEMENTARY INFORMATION:

Background: On March 19, 2015, the National Telecommunications and Information Administration, working with the Department of Commerce's Internet Policy Task Force (IPTF), issued a Request for Comment to “identify substantive cybersecurity issues that affect the digital ecosystem and digital economic growth where broad consensus, coordinated action, and the development of best practices could substantially improve security for organizations and consumers.” ¹ This Request built on earlier work from the Department, including the 2011 Green Paper Cybersecurity, Innovation, and the Internet Economy,² as well as comments the Department had received on related issues.³

¹ U.S. Department of Commerce, Internet Policy Task Force, Request for Public Comment, Stakeholder Engagement on Cybersecurity in the Digital Ecosystem, 80 FR 14360, Docket No. 150312253-5253-01 (Mar. 19, 2015), available at: http://www.ntia.doc.gov/files/ntia/publications/cybersecurity_rfc_03192015.pdf.

² U.S. Department of Commerce, Internet Policy Task Force, Cybersecurity, Innovation, and the Internet Economy (June 2011) (Green Paper), available at: http://www.nist.gov/itl/upload/Cybersecurity_Green-Paper_FinalVersion.pdf.

³ See Comments Received in Response to Federal Register Notice Developing a Framework for Improving Critical Infrastructure Cybersecurity, Docket No. 140721609-4609-01, available at: http://csrc.nist.gov/cyberframework/rfi_comments_10_2014.html.

The IPTF asked for suggestions of security challenges that an NTIA-convened multistakeholder group could address, and offered a dozen potential topics for explicit feedback.⁴ We received 35 comments from a range of stakeholders, including trade associations, large companies, cybersecurity startups, civil society organizations and independent computer security experts.⁵ The comments highlight a range of issues that might be addressed through the multistakeholder process and suggest various ways in which the group's work could be structured.

⁴ Request for Public Comment, supra note 1.

⁵ NTIA has posted the public comments received at http://www.ntia.doc.gov/federal-register-notice/2015/comments-stakeholder-engagement-cybersecurity-digital-ecosystem.

Of the topics suggested, the challenge of collaboration between security researchers and system and software vendors stands out as a critical issue where reaching some consensus on shared goals, principles, and practices is both feasible and necessary. On July 9, 2015, after reviewing the comments, NTIA announced that the first issue to be addressed would be “collaboration on vulnerability research disclosure.” ⁶ While this is not the first discussion on the topic, stakeholders have presented the case that the time is right to make further progress among ecosystem players by achieving consensus and a commitment to baseline principles and accepted practices.

⁶ NTIA, Enhancing the Digital Economy Through Collaboration on Vulnerability Research Disclosure (July 9, 2015), available at: http://www.ntia.doc.gov/blog/2015/enhancing-digital-economy-through-collaboration-vulnerability-research-disclosure.

This issue is commonly referred to as the question of “vulnerability disclosure.” For as long as humans have created software there have been software “bugs.” ⁷ Many of these bugs can introduce vulnerabilities, leaving the users of the systems and software at risk. The nature of these risks vary, and mitigating these risks requires various efforts from the developers and owners of these systems. Security researchers of all varieties, including academics, professionals, and those who simply enjoy thinking about security may identify these bugs for a number of reasons, and in a wide range of contexts. How researchers should handle these vulnerabilities, and how vendors should work with researchers has been the matter of active debate for many years, since before the turn of the millennium.⁸ Several points have been actively debated. Researchers have expressed concerns that vendors do not respond in a timely fashion, leaving users at risk. Vendors worry about the time, expense, and added complexity of addressing every vulnerability, as well as the risks introduced by potentially disclosing vulnerabilities before they can be patched or mitigated. Given that all good faith actors care about security, there is room to find common ground.

⁷ See, e.g., Peter Wayner, Smithsonian Honors the Original Bug in the System, N.Y. Times (Dec. 7, 1997), available at: http://www.nytimes.com/library/cyber/week/120497bug.html.

⁸ For a bibliography of research, proposed standards, online discussions and other resources, see University of Oulu Secure Programming Group, Juhani Eronen & Ari Takanen eds., Vulnerability Disclosure Publications and Discussion Tracking, available at: https://www.ee.oulu.fi/research/ouspg/Disclosure_tracking (last visited Aug. 20, 2015).

The goal of this process is neither to replicate past discussions nor duplicate existing initiatives. As information security is gaining more attention in the collective consciousness due to a series of high profile cybersecurity incidents and disclosed vulnerabilities, more firms and organizations are considering how to engage with third party researchers, just as they are exploring other security tools and processes. The security community itself has worked to promote better collaboration. More software vendors and system owners are offering “bug bounty” programs that reward researchers for sharing vulnerability information. In addition to enterprises that buy vulnerabilities and sell them to vendors, new business models have emerged to help organizations develop and manage bug bounty programs. Leading experts at the International Standards Organization have developed, and are continuing to revise, a formal standard for vendors on how to manage incoming vulnerability information.⁹ NTIA's process is meant to complement these ongoing developments, as well as existing standards and practices developed by other organizations, by bringing together all relevant stakeholders to find consensus on the overarching goals and principles for successful sharing and handling of vulnerability information. By coming together at this critical juncture, stakeholders can expand norms and expectations for the adoption, adaptation, and innovation of practices and standards.

⁹ ISO Standard 29147, Vulnerability Disclosure Overview (2014), available at: http://www.iso.org/iso/catalogue_detail.htm?csnumber=45170.

The goal of this process will be to develop a broad, shared understanding of the overlapping interests between security researchers and the vendors and owners of products discovered to be vulnerable, and establish a consensus about voluntary principles to promote better collaboration. The question of how vulnerabilities can and should be disclosed will be a critical part of the discussion, as will how vendors receive and respond to this information. However, disclosure is only one aspect of successful collaboration. One goal of the overall NTIA process is to promote a digital economy that more strongly emphasizes security and develops community-driven or market-based forces to better and more rapidly secure the digital ecosystem.

Stakeholders will determine the exact nature of the outcome of this process. Since it is unlikely that a one-size-fits all solution will be feasible in this dynamic space, stakeholders will need to determine how to scope and organize the work through sub-groups or other means. Success of the process will be evaluated by the extent to which stakeholders embrace and implement the consensus findings within their individual practices or organizations. Although the stakeholders determine the outcome of the process, it is important to note that the process will not result in a regulatory policy or new law, nor focus on law enforcement or other non-commercial government use of vulnerability data.

Matters To Be Considered: The September 29, 2015, meeting will be the first in a series of NTIA-convened multistakeholder discussions concerning collaboration on vulnerability disclosure. Subsequent meetings will follow on a schedule determined by those participating in the first meeting. Stakeholders will engage in an open, transparent, consensus-driven process to develop voluntary principles guiding the collaboration between vendors and researchers about vulnerability information. The multistakeholder process will involve hearing and understanding the perspectives of diverse stakeholders, from a wide range of both vendors and researchers, while seeking a consensus that enables collaboration for a more secure digital ecosystem.

The September 29, 2015, meeting is intended to bring stakeholders together to begin to share the range of views on how vulnerability information is shared by researchers, how it is received and used by vendors, and to establish more concrete goals and structure of the process. The objectives of this first meeting are to: (1) Briefly share different perspectives on how vulnerability information is shared, received, and resolved; (2) briefly review perceived challenges in successful collaborations; (3) engage stakeholders in a discussion of high-priority substantive issues stakeholders believe should be addressed; (4) engage stakeholders in a discussion of logistical issues, including internal structures such as a small drafting committee or various working groups, and the location and frequency of future meetings; and (5) identify concrete goals and stakeholder work following the first meeting.

The main objective of further meetings will be to encourage and facilitate continued discussion among stakeholders to build consensus around the principles guiding successful collaboration. This discussion may include circulation of stakeholder-developed straw-man drafts and discussion of the appropriate scope of the initiative. Stakeholders may also agree on procedural work plans for the group, including additional meetings or modified logistics for future meetings. NTIA suggests that stakeholders consider setting clear deadlines for a working draft, and consider a phase for external review of this draft, before reconvening to take account of external feedback.

More information about stakeholders' work will be available at: http://www.ntia.doc.gov/other-publication/2015/multistakeholder-process-cybersecurity-vulnerabilities.

Time and Date: NTIA will convene the first meeting of the multistakeholder process to promote collaboration on vulnerability research disclosure on September 29, 2015, from 9:00 a.m. to 3:00 p.m., Pacific Time. Please refer to NTIA's Web site, http://www.ntia.doc.gov/other-publication/2015/multistakeholder-process-cybersecurity-vulnerabilities, for the most current information.

Place: The meeting will be held in the Boardroom in the Booth Auditorium at the University of California, Berkeley, School of Law, Boalt Hall, Bancroft Way and Piedmont Avenue, Berkeley, CA 94720-7200. The location of the meeting is subject to change. Please refer to NTIA's Web site, http://www.ntia.doc.gov/other-publication/2015/multistakeholder-process-cybersecurity-vulnerabilities, for the most current information.

Other Information: The meeting is open to the public and the press on a first-come, first-served basis. Space is limited. To assist the agency in determining space and webcast technology requirements, NTIA requests that interested persons pre-register for the meeting at http://www.ntia.doc.gov/other-publication/2015/multistakeholder-process-cybersecurity-vulnerabilities.

The meeting is physically accessible to people with disabilities. Requests for sign language interpretation or other auxiliary aids should be directed to Allan Friedman at (202) 482-4281 or afriedman@ntia.doc.gov at least seven (7) business days prior to each meeting. The meetings will also be webcast. Requests for real-time captioning of the webcast or other auxiliary aids should be directed to Allan Friedman at (202) 482-4281 or afriedman@ntia.doc.gov at least seven (7) business days prior to each meeting. There will be an opportunity for stakeholders viewing the webcast to participate remotely in the meetings through a moderated conference bridge, including polling functionality. Access details for the meetings are subject to change.

Please refer to NTIA's Web site, http://www.ntia.doc.gov/other-publication/2015/multistakeholder-process-cybersecurity-vulnerabilities, for the most current information.

Dated: August 26, 2015.
Kathy D. Smith,
Chief Counsel, National Telecommunications and Information Administration.

[FR Doc. 2015-21500 Filed 8-28-15; 8:45 am]

BILLING CODE 3510-60-P